DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on May 25, 2005, page 30180.

DATES: Comments must be submitted on or before September 16, 2005. A comment to OMB is most effective if OMB receives it within 30 days of publication.

FOR FURTHER INFORMATION CONTACT: Judy Street on (202) 267-9895.

SUPPLEMENTARY INFORMATION:

Federal Aviation Administration (FAA)

1. Title: Airport Master Record.

Type of Request: Extension of a currently approved collection.

OMB Control Number: 2120-0015.

Form(s) FAA Form 5010-1, -2, -3, and -5.

Affected Public: A total of 19,345 airport operators.

Abstract: 49 U.S.C. 329(b) directs the Secretary of Transportation to collect information about civil aeronautics. The information is required to carry out FAA missions related to the aviation industry, flight planning, and airport engineering. The database is the basic source of data for private, state, and Federal government aeronautical charts and publications.

Estimated Annual Burden Hours: An estimated 8,770 hours annually.

2. Title: General Aviation and Air Taxi Activity and Avionics Survey.

Type of Request: Extension of a currently approved collection.

OMB Control Number: 2120-0060.

Forms: FAA Form 1800-54.

Affected Public: A total of 30,000 aircraft owners.

Abstract: Respondents to this survey are owners of general aviation aircraft. This information is used by the FAA, the National Transportation Safety Board (NTSB) and other government agencies, the aviation industry and others for safety assessment, planning, forecasting, cost/benefit analysis, and to target areas for research.

Estimated Annual Burden Hours: An estimated 10,000 hours annually.

address: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 11, 2005.
Judith D. Street,
FAA Information Collection Clearance Officer, Information Systems and Technology Services Staff, ABA-20.

[FR Doc. 05-16328 Filed 8-9-05; 8:45 am]

BILLING CODE 4910-13-M